ENVIRONMENTAL PROTECTION AGENCY

[EPA-HQ-OAR-2013-0146; FRL-9912-98-OAR]

Release of Integrated Review Plan for the Primary National Ambient Air Quality Standards for Oxides of Nitrogen

AGENCY: Environmental Protection Agency (EPA).

ACTION: Notice of Availability.

SUMMARY: The Environmental Protection Agency (EPA) is announcing the availability of a final document titled Integrated Review Plan for the Primary National Ambient Air Quality Standards for Nitrogen Dioxide (IRP). This document contains the plans for the review of the air quality criteria for health for oxides of nitrogen and the primary national ambient air quality standards (NAAQS) for nitrogen dioxide (NO2). The primary NO2 NAAQS provide for the protection of public health from exposure to oxides of nitrogen in ambient air.

DATES: The IRP will be available on or about June 30, 2014.

ADDRESSES: This document will be available primarily via the Internet at the following Web site: http://www.epa.gov/ttn/naaqs/standards/nox/s_nox_2012_pd.html.

FOR FURTHER INFORMATION CONTACT: Ms. Beth Hassett-Sipple, Office of Air Quality Planning and Standards (mail code C504-06), U.S. Environmental Protection Agency, Research Triangle Park, NC 27711; telephone number: 919-541-4605; fax number: 919-541-0237; email address: hassett-sipple.beth@epa.gov.

SUPPLEMENTARY INFORMATION: Two sections of the Clean Air Act (CAA) govern the establishment and revision of the NAAQS. Section 108 (42 U.S.C. 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary sources;” and “for which . . . [the Administrator] plans to issue air quality criteria. . . . .” Air quality criteria are intended to “accurately reflect the latest scientific knowledge useful in indicating the kind and extent of all identifiable effects on public health or welfare which may be expected from the presence of [a] pollutant in the ambient air . . .” 42 U.S.C. 7408(b). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and, if appropriate, revise the NAAQS based on the revised criteria. Section 109(d)(2) requires that an independent scientific review committee “shall complete a review of the criteria . . . and the national primary and secondary ambient air quality standards . . . and shall recommend to the Administrator any new . . . standards and revisions of existing criteria and standards as may be appropriate . . . .” Since the early 1980's, this independent review function has been performed by the Clean Air Scientific Advisory Committee (CASAC).

Presently, the EPA is reviewing the primary NAAQS for NO2.¹ The final document, announced today, has been developed as part of the planning phase for the review. This phase began with a science policy workshop to identify issues and questions to frame the review.² Drawing from the workshop discussions, a draft IRP was prepared jointly by the EPA's National Center for Environmental Assessment, within the Office of Research and Development, and the EPA's Office of Air Quality Planning and Standards, within the Office of Air and Radiation (79 FR 7184, February 6, 2014).³ The draft IRP was reviewed by CASAC at a meeting on March 12, 2014 (79 FR 8701, February 13, 2014). Comments from CASAC on the draft IRP were provided to the EPA in a June 10, 2014, letter (Frey, 2014).⁴ The final IRP includes consideration of CASAC and public comments received on the draft IRP. This document presents the current plan and specifies the schedule for the entire review, the process for conducting the review, and the key policy-relevant science issues that will guide the review.

¹ The EPA's call for information for this review was issued on February 10, 2012 (77 FR 7149).

² The EPA held a workshop titled “Kickoff Workshop to Inform EPA's Review of the Primary NO2 NAAQS on February 29 to March 1, 2012 (77 FR 7149, February 10, 2012).

³ The EPA released a draft plan for developing the Integrated Science Assessment (ISA) for CASAC consultation and public review (78 FR 26026, May 3, 2013). The EPA held a consultation with CASAC on this draft plan during a public teleconference on June 5, 2013 (78 FR 27234, May 10, 2013). Individual CASAC member comments were provided to the EPA in a letter from Dr. H. Christopher Frey, Chair, Clean Air Scientific Advisory Committee to the Honorable Bob Perciasepe, Acting Administrator, U.S. EPA, Consultation on the EPA's Draft Plan for the Development of the Integrated Science Assessment for Nitrogen Oxides—Health Criteria (May 2013 Draft). June 18, 2013. Available at: http://yosemite.epa.gov/sab/sabproduct.nsf/264cb1227d55e02c85257402007446a4/08EF0A3789CDB13A85257B8E006A496E/$File/EPA-CASAC-13-006+unsigned.pdf. CASAC and public comments on that draft plan were considered in developing Chapter 4 of the draft IRP.

⁴ Letter from Dr. H. Christopher Frey, Chair, Clean Air Scientific Advisory Committee to the Honorable Gina McCarthy, Administrator, U.S. EPA. CASAC Review of the EPA's Integrated Review Plan for the Primary National Ambient Air Quality Standards for Nitrogen Dioxide (External Review Draft) (February 2014). June 10, 2014. Available at: http://yosemite.epa.gov/sab/sabproduct.nsf/264cb1227d55e02c85257402007446a4/89989229944F36B085257CF300692E2A/$File/EPA-CASAC-14-001+unsigned.pdf.

Dated: June 19, 2014.
Mary Henigin,
Acting Director, Office of Air Quality Planning and Standards.

[FR Doc. 2014-15155 Filed 6-27-14; 8:45 am]

BILLING CODE 6560-50-P